DEPARTMENT OF TRANSPORTATION

Federal Aviation Administration

14 CFR Part 39

[Docket No. FAA-2006-25422; Directorate Identifier 2006-NM-095-AD]

RIN 2120-AA64

Airworthiness Directives; Empresa Brasileira de Aeronautica S.A. (EMBRAER) Model EMB-135 and EMB-145, -145ER, -145MR, -145LR, -145XR, -145MP, and -145EP Airplanes

AGENCY: Federal Aviation Administration (FAA), Department of Transportation (DOT).

ACTION: Notice of proposed rulemaking (NPRM).

SUMMARY: The FAA proposes to adopt a new airworthiness directive (AD) for all EMBRAER Model EMB-135 and EMB-145, -145ER, -145MR, -145LR, -145XR, -145MP, and -145EP airplanes. This proposed AD would require inspecting the fuel quantity indication system (FQIS) wire harness and the DC fuel pump wire harness to determine if the harnesses are properly attached at their respective attachment points and properly separated from one another, and performing corrective actions if necessary. This proposed AD results from a report that the FQIS wire harness may not be properly attached at its attachment points or properly separated from the DC fuel pump wire harness. We are proposing this AD to prevent chafing between those harnesses or chafing of the harnesses against adjacent airplane structure or components, which could present a potential ignition source that could result in a fire or explosion.

DATES: We must receive comments on this proposed AD by August 23, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2006-25422; Directorate Identifier 2006-NM-095-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Departamento de Aviação Civil (DAC), which is the airworthiness authority for Brazil, notified us that an unsafe condition may exist on all EMBRAER Model EMB-135 and EMB-145, -145ER, -145MR, -145LR, -145XR, -145MP, and -145EP airplanes. The DAC advises that the fuel quantity indication system (FQIS) wire harness may not be properly attached at its attachment points and may not be properly separated from the DC fuel pump wire harness, due to the design of the area. This condition, if not corrected, could allow chafing between those harnesses or chafing of those harnesses against adjacent airplane structure or components, which could present a potential ignition source that could result in a fire or explosion.

Relevant Service Information

EMBRAER has issued Service Bulletin 145-28-0025, Revision 04, dated November 7, 2005. The service bulletin describes procedures for a one-time visual inspection of the FQIS harness and DC fuel pump wire harness to determine if the harnesses are properly attached at their respective attachment points and properly separated from one another. The inspection involves examining the condition of the harness attachment points, making sure the harnesses cannot chafe against each other or against adjacent structure or components, and making sure that the harnesses are not attached to each other. As a corrective action if a discrepancy is found, the service bulletin describes procedures for rerouting the DC fuel pump wire harness if any harness is not properly attached or separated.

Accomplishing the actions specified in the service information is intended to adequately address the unsafe condition. The DAC mandated the service information and issued Brazilian airworthiness directive 2006-03-01, dated April 19, 2006, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for airplanes of this type design that are certificated for operation in the United States.

Therefore, we are proposing this AD, which would require accomplishing the actions specified in the service information described previously, except as discussed under “Difference Between the Proposed AD and Service Information.”

Difference Between the Proposed AD and Service Information

EMBRAER Service Bulletin 145-28-0025, Revision 04, does not specify a corrective action if a broken, frayed, cracked, or damaged wire, or a damaged harness, is found. This proposed AD would require that any such damage be repaired in accordance with relevant sections of the standard wiring practices manual.

Costs of Compliance

This proposed AD would affect about 494 airplanes of U.S. registry. The proposed actions would take about 1 work hour per airplane, at an average labor rate of $80 per work hour. Based on these figures, the estimated cost of the proposed AD for U.S. operators is $39,520, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira De Aeronautica S.A. (EMBRAER): Docket No. FAA-2006-25422; Directorate Identifier 2006-NM-095-AD.

Comments Due Date

(a) The FAA must receive comments on this AD action by August 23, 2006.

Affected ADs

(b) None.

Applicability

(c) This AD applies to all EMBRAER Model EMB-135BJ, -135ER, -135KE, -135KL, and -135LR airplanes; and Model EMB-145, -145ER, -145MR, -145LR, -145XR, -145MP, and -145EP airplanes; certificated in any category.

Unsafe Condition

(d) This AD results from a report that the fuel quantity indication system (FQIS) wire harness may not be properly attached or separated from the DC fuel pump wire harness. We are issuing this AD to prevent chafing between those harnesses or chafing of the harnesses against adjacent airplane structure or components, which could present a potential ignition source that could result in a fire or explosion.

Compliance

(e) You are responsible for having the actions required by this AD performed within the compliance times specified, unless the actions have already been done.

Inspecting Harnesses for Proper Attachment and Separation

(f) Within 5,000 flight hours after the effective date of this AD: Do a one-time general visual inspection of the FQIS wire harness and the DC fuel pump wire harness to determine if the harnesses are properly attached at their respective attachment points and properly separated from one another, and do all applicable corrective actions, in accordance with the Accomplishment Instructions of EMBRAER Service Bulletin 145-28-0025, Revision 04, dated November 7, 2005. All applicable corrective actions must be done before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Further Corrective Actions

(g) If any broken, frayed, cracked, or damaged wire, or a damaged harness, is found: Before further flight, repair the damaged wire or harness in accordance with relevant sections of the standard wiring practices manual.

Actions Accomplished Previously

(h) Actions done before the effective date of this AD in accordance with one of the service bulletins identified in Table 1 of this AD are acceptable for compliance with the corresponding actions required by this AD.

Table 1.—Previous Issues of the Service Information
EMBRAER Service Bulletin | Revision level | Date
145-28-0025 | None | April 19, 2004.
145-28-0025 | 01 | June 9, 2004.
145-28-0025 | 02 | November 8, 2004.
145-28-0025 | 03 | April 28, 2005.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Brazilian airworthiness directive 2006-03-01, dated April 19, 2006, also addresses the subject of this AD.

Issued in Renton, Washington, on July 14, 2006.
Ali Bahrami,
Manager, Transport Airplane Directorate, Aircraft Certification Service.

[FR Doc. E6-11724 Filed 7-21-06; 8:45 am]

BILLING CODE 4910-13-P